OFFICE OF THE UNITED STATES TRADE REPRESENTATIVE

[Docket Number USTR-2017-0014]

Generalized System of Preferences (GSP): Initiation of the 2017 Annual GSP Product and Country Practices Review; Deadlines for Filing Petitions; Notice of Change in Country Practices Hearing

AGENCY: Office of the United States Trade Representative.

ACTION: Notice of public hearing and request for petitions and comments.

SUMMARY: The Office of the United States Trade Representative (USTR) will consider petitions to modify the list of articles that are eligible for duty-free treatment under the Generalized System of Preferences (GSP) program, and to modify the GSP status of certain GSP beneficiary developing countries because of country practices.

USTR is extending the previously announced hearing on Bolivia's country practices to include a second day to provide interested parties with an opportunity to submit testimony on the following country practice petitions accepted in previous years that continue to be under review: Argentina, Ecuador, Georgia, Indonesia, Iraq, Laos, Thailand, Ukraine, and Uzbekistan.

USTR will announce the procedures to receive petitions requesting waivers of competitive need limitations (CNLs) and the schedule for a public hearing on the product review petitions and any new country practice petitions in the Federal Register at a later date.

DATES:

September 12, 2017 at midnight EST: Deadline for submission of comments, pre-hearing briefs and requests to appear at the September 26-27, 2017, public hearing.

September 26-27, 2017: The GSP Subcommittee of the Trade Policy Staff Committee (TPSC) will convene a public hearing on the GSP country practice review of Bolivia in Rooms 1 and 2, 1724 F Street NW., Washington DC 20508, beginning at 10:00 a.m. The GSP Subcommittee is extending the hearing to September 27th to provide interested parties with an opportunity to submit testimony on all country practice petitions accepted in previous years that continue to be under review. Any interested party, including foreign governments, may submit testimony or ask to testify at the September 26-27, 2017 country practices hearing.

October 17, 2017 at midnight EST: Deadline for submission of post-hearing briefs.

October 17, 2017 at midnight EST: Deadline for submission of petitions to modify the list of articles eligible for duty-free treatment under the GSP and new petitions to review the GSP status of any beneficiary developing country. USTR will announce decisions on the petitions accepted for review, a schedule for any related public hearings, and the opportunity to provide comments, at a later date.

ADDRESSES: USTR strongly prefers electronic submissions made through the Federal eRulemaking Portal: https://www.regulations.gov. The docket number for the 2017 Annual GSP Review is USTR-2017-0014. The current country practice case docket numbers are listed in section B.3 below. Follow the instructions for submitting comments in section C below. For alternatives to on-line submissions, please contact Naomi Freeman at (202) 395-2974.

FOR FURTHER INFORMATION CONTACT: Naomi Freeman at (202) 395-2974 or GSP@ustr.eop.gov.

SUPPLEMENTARY INFORMATION:

A. Background

The GSP program provides for the duty-free treatment of designated articles when imported from beneficiary developing countries. The GSP program is authorized by Title V of the Trade Act of 1974 (19 U.S.C. 2461 et seq.), as amended, and is implemented in accordance with Executive Order 11888 of November 24, 1975, as modified by subsequent Executive Orders and Presidential Proclamations.

B. The 2017 Annual GSP Review Petitions

1. GSP Product Review Petitions

Any interested party, including foreign governments, may submit petitions to:

1. Designate additional articles as eligible for GSP benefits, if the articles are imported from countries designated as least-developed beneficiary developing countries, or as beneficiary sub-Saharan African countries under the African Growth and Opportunity Act (AGOA).

2. Withdraw, suspend or limit the application of duty-free treatment accorded under the GSP with respect to any article.

3. Otherwise modify GSP coverage.

Petitioners seeking to add products to eligibility for GSP benefits should note that, as provided in section 503(b) of the Trade Act (19 U.S.C. 2463(b)), certain articles may not be designated as eligible articles under GSP. As specified in 15 CFR 2007.1, all petitions must include a detailed description of the product and the eight-digit subheading of the Harmonized Tariff Schedule of the United States (HTSUS) under which the product is classified.

2. Country Practices Review Petitions

Any interested party may submit a petition to review the GSP eligibility of any beneficiary developing country with respect to any of the designation criteria listed in sections 502(b) and 502(c) of the Trade Act (19 U.S.C. 2462(b) and (c)).

3. Notice of Change to Country Practices Public Hearing

The GSP Subcommittee of the TPSC will hold a hearing on September 26-27, 2017, for the following country practice cases:

Country | Basis for petition | Petitioner | Docket No.
• Argentina | Request for GSP Benefits | Argentina | USTR-2016-0023
• Bolivia | Worker Rights+Child Labor | USTR | USTR-2017-0009
• Ecuador | Arbitral Awards | Chevron Corporation | USTR-2013-0013
• Georgia | Worker Rights | AFL-CIO | USTR-2013-0009
• Indonesia | Intellectual Property Rights | International Intellectual Property Alliance (IIPA) | USTR-2013-0011
• Iraq | Worker Rights | AFL-CIO | USTR-2013-0004
• Laos | Request for GSP Benefits | Laos | USTR-2013-0021
• Thailand | Worker Rights | AFL-CIO | USTR-2015-0018
• Ukraine | Intellectual Property Rights | IIPA | USTR-2013-0010
• Uzbekistan | Worker Rights+Child Labor | International Labor Rights Forum (ILRF) | USTR-2013-0007
• Uzbekistan | Intellectual Property Rights | IIPA | USTR-2013-0014

The hearing will be held in Rooms 1 and 2, 1724 F Street NW., Washington DC 20508 and will be open to the public and to the press. We will make a transcript of the hearing available on https://www.regulations.gov within approximately two weeks after the date of the hearing.

All interested parties wishing to make an oral presentation at the hearing must submit, following the “Requirements for Submissions” set out below, the name, address, telephone number, and email address, if available, of the witness(es) representing their organization by midnight on September 12, 2017. Requests to present oral testimony must be accompanied by a written brief or summary statement, in English. The GSP Subcommittee will limit oral testimony to five-minute presentations that summarize or supplement information contained in briefs or statements submitted for the record. The GSP Subcommittee will accept post-hearing briefs or statements if they conform with the requirements set out below and are submitted, in English, by midnight on October 17, 2017. Parties not wishing to appear at the public hearing may submit pre-hearing and post-hearing briefs or comments by these deadlines.

In order to be assured of consideration, you must submit all post-hearing briefs or statements by the October 17, 2017 deadline to docket number USTR-2017-0014 via www.regulations.gov. However, if there are new developments or information that parties wish to share with the GSP Subcommittee after this date, the regulations.gov docket will remain open until a final decision is made. Post all comments, letters, or other submissions related to country practice reviews to the appropriate docket listed above via www.regulations.gov.

C. Requirements for Submissions

All submissions in response to this notice must conform to the GSP regulations set forth at 15 CFR part 2007— https://www.ecfr.gov/cgi-bin/text-idx?SID=271bd12a5ef9cae0c4c178d1131ac292&mc=true&node=pt15.3.2007&rgn=div5—except as modified below.

The GSP Subcommittee strongly encourages on-line submissions, using the https://www.regulations.gov Web site. All submissions must be in English and must be transmitted electronically via www.regulations.gov using docket number USTR-2017-0014 for the 2017 GSP Annual Review (for products or new country practice petitions), and the docket numbers listed above for testimony at the country practice public hearing for current country practice cases. To make a submission via www.regulations.gov, enter the appropriate docket number on the home page and click “search.” The site will provide a search-results page listing all documents associated with this docket. Find a reference to this notice and click on the link entitled “Comment Now!” For further information on using the www.regulations.gov Web site, please consult the resources provided on the Web site by clicking on “How to Use Regulations.gov” on the bottom of the home page.

USTR will not accept hand-delivered submissions. USTR will not accept submissions for review that do not provide the information required by sections 2007.0 and 2007.1 of the GSP regulations, except upon a detailed showing in the submission that the petitioner made a good faith effort to obtain the information required.

The https://www.regulations.gov Web site allows users to provide comments by filling in a “Type Comment” field, or by attaching a document using an “Upload File” field. The GSP Subcommittee prefers that you provide submissions as an attached document. If you attach a document, it is sufficient to type “See attached” in the “Type Comment” field. USTR prefers submissions in Microsoft Word (.doc) or Adobe Acrobat (.pdf) format. If the submission is in another file format, please indicate the name of the software application in the “Type Comment” field. At the beginning of the submission or on the first page (if an attachment), include the following text (in bold and underlined): (1) “2017 GSP Annual Review” and (2) the eight-digit HTSUS subheading number in which the product is classified (for product petitions) or the name of the country (for country practice or requests for new GSP country benefits petitions). Interested parties submitting petitions that request action with respect to specific products also should list at the beginning of the submission, or on the first page (if an attachment) the following information: (1) The requested action; and (2) if applicable, the beneficiary developing country. Submissions should not exceed 30 single-spaced, standard letter-size pages in 12-point type, including attachments.

Please do not attach separate cover letters or data attachments to electronic submissions; rather, include any such information in the comments themselves. Similarly, to the extent possible, please include any exhibits, annexes, or other attachments in the same file as the comment itself, rather than submitting them as separate files.

For any electronic submissions that contain business confidential information, the file name of the business confidential version should begin with the characters “BC”. Any page containing business confidential information must be clearly marked “BUSINESS CONFIDENTIAL” on the top of that page and the submission should clearly indicate, via brackets, highlighting, or other means, the specific information that is business confidential. A filer requesting business confidential treatment must certify that the information is business confidential and would not customarily be released to the public by the submitter. Filers of submissions containing business confidential information also must submit a public version of their comments that we will place in the docket for public inspection. The file name of the public version should begin with the character “P”. The “BC” and “P” should be followed by the name of the person or entity submitting the comments. Filers submitting comments containing no business confidential information should name their file using the name of the person or entity submitting the comments.

You will receive a submission tracking number upon completion of the submissions procedure at https://www.regulations.gov. The tracking number is your confirmation that the submission was received into https://www.regulations.gov. The GSP Subcommittee is not able to provide technical assistance for the Web site. The GSP Subcommittee may not consider documents that are not submitted in accordance with these instructions

As noted, the GSP Subcommittee strongly urges submitters to file comments through www.regulations.gov. You must make any alternative arrangements with Naomi Freeman in advance of transmitting a comment. You can contact Ms. Freeman at (202) 395-2974.

We will post comments in the docket for public inspection, except business confidential information. You can view comments on the https://www.regulations.gov Web site by entering the relevant docket number in the search field on the home page.

Erland Herfindahl,
Deputy Assistant U.S. Trade Representative for the Generalized System of Preferences and Chair of the GSP Subcommittee of the Trade Policy Staff Committee Office of the U.S. Trade Representative.

[FR Doc. 2017-16967 Filed 8-10-17; 8:45 am]

BILLING CODE 3290-F7-P